INTERNATIONAL TRADE COMMISSION

[Investigation No. 337-TA-691]

In the Matter of Certain Inkjet Ink Supplies and Components Thereof; Notice of Commission Issuance of a General Exclusion Order and a Cease and Desist Order; Termination of Investigation

AGENCY: U.S. International Trade Commission.

ACTION: Notice.

SUMMARY: Notice is hereby given that the U.S. International Trade Commission has issued a general exclusion order and a cease and desist order in the above-captioned investigation under section 337 of the Tariff Act of 1930, as amended, 19 U.S.C. 1337 (“section 337”), and has terminated the investigation.

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on October 29, 2009, based on a complaint filed by Hewlett-Packard Company of Palo Alto, California (“HP”). 74 FR 55856-7 (Oct. 29, 2009). The complaint alleged violations of section 337 in the importation into the United States, the sale for importation, or the sale within the United States after importation of certain inkjet ink supplies or components thereof that infringe one or more of claims 1-7 and 22-28 of United States Patent No. 6,959,985; claims 1-10, 11, 12, 14, 18-20, 22, 26, 27, and 28-35 of United States Patent No. 7,104,630; claims 6, 7, 9, and 10 of U.S. Patent No. 6,089,687 (“the '687 patent”); and claims 1-3, 5, and 6 of U.S. Patent No. 6,264,301 (“the '301 patent”). The complaint named as respondents Zhuhai Gree Magneto-Electric Co. Ltd. of Guangdong, China (“Zhuhai”); InkPlusToner.com of Canoga Park, California (“InkPlusToner”); Mipo International Ltd. of Kowloon, Hong Kong (“Mipo International”); Mextec Group, Inc. d/b/a Mipo America Ltd. of Miami, Florida (“Mextec”); Shanghai Angel Printer Supplies Co. Ltd. of Shanghai, China (“Shanghai Angel”); SmartOne Services LLC d/b/a InkForSale.net of Hayward, California (“Smart One”); Shenzhen Print Media Co., Ltd. of Shenzhen, China (“Shenzhen Print Media”); Comptree Ink d/b/a Meritline, ABCInk, EZ Label, and CDR DVDR Media of City of Industry, California (“Comptree”); Zhuhai National Resources & Jingjie Imaging Products Co., Ltd. of Guangdong, China (“Zhuhai National”); Tatrix International of Guangdong, China (“Tatrix”); and Ourway Image Co., of Guangdong, China (“Ourway”).

Seven respondents, Mipo International, Mextec, Shanghai Angel, Shenzhen Print Media, Zhuhai National, Tatrix, and Ourway (collectively, “Defaulting Respondents”), failed to answer the Complaint and Notice of Investigation. The ALJ granted default determinations against the Defaulting Respondents (Order No. 9), and the Commission determined not to review the order. See Notice of Commission Determination Not to Review an Initial Determination Finding Seven Respondents in Default (February 17, 2010). Three respondents, Comptree, InkPlusToner, and SmartOne, reached settlement agreements with HP and were terminated from the investigation (Order Nos. 11, 13, and 14), and the Commission determined not to review those orders. One respondent, Zhuhai, was terminated from the investigation on the basis of a consent order (Order No. 12), and the Commission determined not to review that order.

On May 7, 2010, HP moved for summary determination that a domestic industry exists and that the Defaulting Respondents have violated section 337. The ALJ granted HP's motion and issued his final ID (Order No. 18) on August 30, 2010, finding substantial, reliable and probative evidence of violation by the Defaulting Respondents with respect to claims 6 and 9 of the `687 patent and claims 1, 5, and 6 of the `301 patent. The ID included the ALJ's recommended determination (“RD”) on remedy and bonding. The ALJ recommended that in the event the Commission finds a violation of section 337, the Commission should issue a general exclusion order and a cease and desist order directed to domestic respondent Mextec. The ALJ also recommended that the Commission set a bond of 100 percent for products imported during the period of Presidential review.

On October 7, 2010, the Commission issued notice of its determination not to review the final ID, and to solicit submissions on remedy, the public interest, and bonding. On October 28, 2010, HP and the Commission investigative attorney filed submissions with respect thereto. After reviewing the relevant portions of the record, the Commission has determined to issue a general exclusion order with respect to claims 6 and 9 of the `687 patent and claims 1, 5, and 6 of the `301 patent, and a cease and desist order against Mextec with respect to the same claims.

The Commission has therefore terminated this investigation. The authority for the Commission's determination is contained in section 337 of the Tariff Act of 1930, as amended (19 U.S.C. 1337), and sections 210.16(c), 210.41-.42, and 210.50 of the Commission's Rules of Practice and Procedure (19 CFR 210.16(c), 210.41-.42, and 210.50).

By order of the Commission.
Issued: January 11, 2011.
Marilyn R. Abbott,
Secretary to the Commission.

[FR Doc. 2011-836 Filed 1-14-11; 8:45 am]

BILLING CODE 7020-02-P